DEPARTMENT OF DEFENSE

Department of the Army, Corps of Engineers

Notice of Availability of the Final Missouri River Recovery Management Plan and Environmental Impact Statement

AGENCY: U.S. Army Corps of Engineers, DoD.

ACTION: Notice.

SUMMARY: The Kansas City and Omaha Districts of the U.S. Army Corps of Engineers (USACE), in cooperation with the U.S. Fish and Wildlife Service (USFWS), have developed the Missouri River Recovery Management Plan and Environmental Impact Statement (MRRMP-EIS). This document is a programmatic assessment of major federal actions necessary to avoid a finding of jeopardy to the pallid sturgeon (Scaphirhynchus albus), interior least tern (Sterna antillarum athalassos), and the Northern Great Plains piping plover (Charadrius melodus) caused by operation of the Missouri River Mainstem System and the Kansas River Reservoir System and operation and maintenance of the Missouri River Bank Stabilization and Navigation Project (BSNP) in accordance with the Endangered Species Act (ESA) of 1973, as amended. This programmatic document also assesses the Missouri River BSNP fish and wildlife mitigation project described in the 2003 Record of Decision (ROD) and authorized by the Water Resources Development Act (WRDA) of 1986, 1999, and 2007 as it relates to endangered species.

DATES: Submit written comments on the final EIS and supporting documents on or before October 9, 2018.

ADDRESSES: Send written comments to U.S. Army Corps of Engineers, Omaha District, ATTN: CENWO-PM-AC—MRRMP-EIS, 1616 Capitol Ave., Omaha, NE 68102; attach comment letters via email at cenwo-planning@usace.army.mil; or provide comments via an online comment form (preferred method) at http://parkplanning.nps.gov/MRRMP.

FOR FURTHER INFORMATION CONTACT: Tiffany Vanosdall, Project Manager at 402-995-2695.

SUPPLEMENTARY INFORMATION: The USACE is issuing this notice pursuant to section 102(2)(c) of the National Environmental Policy Act of 1969 (NEPA), as amended (42 U.S.C. 4321 et seq.) and the Council on Environmental Quality (CEQ) regulations for implementing the procedural provisions of NEPA (43 CFR parts 1500 through 1508). This notice announces the availability of the final MRRMP-EIS. The MRRMP-EIS, its appendices, and other supporting documents can be accessed at: www.moriverrecovery.org under the “Management Plan” tab on the website homepage. These documents can also be accessed at http://parkplanning.nps.gov/MRRMP.

Background Information

The draft MRRMP-EIS was released on December 23, 2016 and included a 122-day public comment period that ended on April 24, 2017. During that time USACE held six public meetings to solicit comments from the public. USACE analyzed the comments received from the public and considered them in preparation of the final MRRMP-EIS (Appendix K). The final MRRMP-EIS is available for public review until October 9, 2018. The USACE has also completed formal consultation with the USFWS under Section 7 of the ESA. A final Biological Assessment (BA) was completed by the USACE in October of 2017 and a Final BiOp was completed by the USFWS in April, 2018. The BiOp concludes that the proposed action described in the BA would not cause jeopardy for the least tern, piping plover, or pallid sturgeon. The preferred alternative in the Final EIS incorporates the proposed action described in the 2017 BA and incorporates the 2018 BiOp.

This EIS provides the necessary information for the public to fully evaluate a range of alternatives designed to meet the purpose and need of the MRRMP-EIS and to provide thoughtful and meaningful comment for the Agency's consideration. Six alternatives were carried forward for detailed evaluation in the MRRMP-EIS (the no-action alternative and five action alternatives). The following management actions were included in all six of the alternatives:

—Mechanical construction of emergent sandbar habitat (ESH);

—Vegetation management, predator management, and human restriction measures on ESH;

—Pallid sturgeon propagation and augmentation;

—Pallid sturgeon early life stage habitat construction downstream of Ponca, Nebraska;

—Habitat development and management of acquired lands; and

—Monitoring and evaluation of management actions.

However, the scale and extent of mechanical ESH creation and pallid surgeon early life stage habitat construction would vary among the alternatives.

Under the no-action alternative, in addition to the actions common to all alternatives, the USACE would mechanically construct ESH at a rate of 164 acres per year in the Garrison and Gavins Point reaches and construct pallid early life stage habitat to achieve an average of 20 acres of shallow water habitat per river mile. The no-action alternative would also continue to implement the spring pulse included in the Master Manual.

Alternative 2 represents the USFWS's interpretation of the management actions that could be ultimately implemented as part of the 2003 Amended BiOp Reasonable and Prudent Alternative (RPA). In addition to the actions common to all alternatives, the USACE would mechanically construct ESH at a rate up to 1,331 acres per year in the Garrison, Fort Randall, Lewis and Clark Lake, and Gavins Point reaches and pallid early life stage habitat to achieve an average of 30 acres of shallow water habitat per river mile. Alternative 2 would also include a spring pallid flow release consisting of a bimodal pulse in March and May and a low summer flow.

Under Alternatives 3-6, the USACE would follow the processes and criteria in the SAMP that was developed based on the results of the effects analysis. The SAMP identifies the process and criteria to implement initial management actions, assess hypotheses, and introduce new management actions should they become necessary. Initial management actions include specific study efforts to fill data gaps in knowledge of the pallid sturgeon life cycle, creation of spawning habitat for pallid sturgeon to monitor effectiveness, and the construction of pallid early life stage habitat following the interception and rearing complex (IRC) concept identified in the effects analysis.

In addition to the actions common to Alternatives 3-6, Alternative 3 would include mechanical construction of ESH at an average rate of 332 acres per year when construction is needed in the Garrison, Fort Randall, and Gavins Point reaches. Alternative 3 would not implement the plenary spring pulse included in the Master Manual. However, as part of the SAMP the potential for a one-time spawning cue test release, if studies during the first 9-10 years do not provide a clear answer on whether a spawning cue is important, is included in Alternative 3.

In addition to the actions common to Alternatives 3-6, Alternative 4 would include mechanical construction of ESH at an average rate of 195 acres per year when construction is needed in the Garrison, Fort Randall, and Gavins Point reaches. Alternative 4 also includes implementation of a spring ESH creation release if System storage is at 42 MAF or greater on April 1, normal flows that could create 250 acres of ESH have not occurred in the previous four years, and downstream flow is below identified flood control constraints specific to this alternative.

In addition to the actions common to Alternatives 3-6, Alternative 5 would include mechanical construction of ESH at an average rate of 253 acres per year when construction is needed in the Garrison, Fort Randall, and Gavins Point reaches. Alternative 5 also includes implementation of a fall ESH creation release if System storage is at 54.5 MAF or greater on October 17, normal flows that could create 250 acres of ESH have not occurred in the previous four years, and downstream flow is below identified flood control constraints specific to this alternative.

In addition to the actions common to Alternatives 3-6, Alternative 6 would include mechanical construction of ESH at an average rate of 245 acres per year when construction is needed in the Garrison, Fort Randall, and Gavins Point reaches. Alternative 6 also includes implementation of a spawning cue release, attempted every 3 years, consisting of a bimodal pulse in March and May. These spawning cue releases would not be started or would be terminated whenever downstream flow is at identified flood control constraints specific to this alternative.

The final EIS evaluates the potential effects on the human environment associated with each of the above alternatives. Resources and uses evaluated include: River infrastructure and hydrological processes; pallid sturgeon; piping plover and interior least tern; fish and wildlife habitat; other special status species; water quality; air quality; cultural resources; land use and ownership; commercial sand and gravel dredging; flood risk management and interior drainage; hydropower; irrigation; navigation; recreation; thermal power; water supply; wastewater facilities; tribal interests (other); human health and safety; environmental justice; ecosystem services; and Mississippi River resources.

Based on projected impacts, the ability to meet the plan's purpose, need and species objectives, and other decision criteria, USACE has identified Alternative 3-Mechanical Construction as its preferred alternative. Importantly, Alternative 3 would be implemented under the science and adaptive management framework summarized in Chapter 4 of the MRRMP-EIS and detailed within the Science and Adaptive Management Plan (SAMP).

Schedule. Public comments on the final MRRMP-EIS must be received by October 9, 2018. The USACE will consider new comments received on the final MRRMP-EIS prior to issuing a Record of Decision which is expected in the fall of 2018.

Public Disclosure Statement. If you wish to comment, you may provide your comments as indicated under the ADDRESSES section of this notice. Before including your address, phone number, email address, or any other personal identifying information in your comment, you should be aware that your entire comment—including your personal identifying information—may be made available to the public at any time. While you can request us to withhold your personal identifying information from public review, we cannot guarantee that we will be able to do so.

Dated: August 20, 2018.
Mark Harberg,
Program Manager, U.S. Army Corps of Engineers.

[FR Doc. 2018-18982 Filed 8-30-18; 8:45 am]

BILLING CODE 3720-58-P